DEPARTMENT OF AGRICULTURE

Commodity Credit Corporation

Notice of Funds Availability: Inviting Applications for Market Access Program, Foreign Market Development Cooperator Program, Emerging Markets Program, Technical Assistance for Specialty Crops Program, and Quality Samples Program; Extension of Application Due Date

AGENCY: Commodity Credit Corporation.

ACTION: Notice; extension of application due date.

Catalog of Federal Domestic Assistance (CFDA) Numbers: 10.601 (MAP), 10.600 (FMD), 10.603 (EMP), 10.604 (TASC), 10.605 (QSP).

SUMMARY: The Commodity Credit Corporation (CCC) published five notices in the Federal Register on April 15, 2011, inviting proposals for the Market Access Program (MAP), Foreign Market Development Cooperator Program (FMD), Emerging Markets Program (EMP), Technical Assistance for Specialty Crops Program (TASC), and Quality Samples Program (QSP). The notices stated that eligible applicants for these programs could submit proposals through May 16, 2011. CCC was unaware at that time that electrical construction issues at the U.S. Department of Agriculture would prevent the Internet-based application from operating for several days during the application period. Thus, this unforeseen situation results in less than the desired 30-day application period. Consequently by this notice, CCC is extending the application period due date for all of these programs to May 20, 2011.

DATES: Effective: May 12, 2011.

FOR FURTHER INFORMATION CONTACT: Program Operations Division, Office of Trade Programs, Foreign Agricultural Service, Portals Office Building, Suite 400, 1250 Maryland Avenue, SW., Washington, DC 20024, or by phone: (202) 720-4327, or by fax: (202) 720-9361, or by e-mail: podadmin@fas.usda.gov. Information is also available on the Foreign Agricultural Service Web sites at: http://www.fas.usda.gov/mos/programs/map.asp, http://www.fas.usda.gov/mos/programs/fmdprogram.asp, http://www.fas.usda.gov/mos/em-markets/em-markets.asp, http://www.fas.usda.gov/mos/tasc/tasc.asp, and http://www.fas.usda.gov/mos/programs/QSP.asp.

SUPPLEMENTARY INFORMATION: CCC published five notices in the Federal Register on April 15, 2011, establishing a May 16, 2011, deadline for proposals for the MAP, FMD, EMP, TASC, and QSP programs. This deadline, which is no longer adequate based on circumstances beyond the control of CCC, appeared in the DATES section and the “Application and Submission Information” section of each notice. The new application due date is May 20, 2011. By this notice, CCC informs applicants for funding under the MAP, FMD, EMP, TASC, and QSP programs that all applications must be received by 5 p.m. Eastern Daylight Time, May 20, 2011. Applications received after this date will be considered as described in the previously issued notices.

Dated: May 6, 2011.
John D. Brewer,
Administrator, Foreign Agricultural Service, and Vice President, Commodity Credit Corporation.

[FR Doc. 2011-11703 Filed 5-11-11; 8:45 am]

BILLING CODE 3410-10-P